GENERAL SERVICES ADMINISTRATION

41 CFR Chapter 301

[FTR Amendment 110]

RIN 3090-AH73

Federal Travel Regulation; Maximum Per Diem Rates for Indiana, Kansas, Minnesota, Missouri, and Pennsylvania

AGENCY: Office of Governmentwide Policy, General Services Administration (GSA).

ACTION: Final rule.

SUMMARY: The General Services Administration (GSA) is amending the Federal Travel Regulation (FTR) to improve the ability of the per diem rates to meet the lodging demands of Federal travelers to high cost travel locations. GSA has integrated the contracting mechanism of the new Federal Premier Lodging Program (FPLP) into the per diem rate-setting process. An analysis of FPLP contracting actions and the lodging rate survey data reveals that the maximum per diem rate for the State of Indiana, city of Indianapolis, including Marion County and Fort Benjamin Harrison; State of Kansas, cities of Kansas City/Overland Park, including Wyandotte and Johnson Counties; State of Minnesota, cities of Minneapolis/St. Paul, including Hennepin County and Fort Snelling Military Reservation and Navy Astronautics Group (Detachment BRAVO), and Ramsey County; State of Missouri, city of Kansas City, including Jackson and Clay Counties and Kansas City International Airport, and city of Platte, including Platte County (except Kansas City International Airport); and State of Pennsylvania, cities of King of Prussia/Ft. Washington/Bala Cynwyd, including Montgomery County, and city of Philadelphia, including Philadelphia County, should be changed to provide for the reimbursement of Federal employees' lodging expenses covered by the per diem. This final rule amends the final rule published in the Federal Register on August 30, 2002, by changing the maximum lodging amounts in the prescribed areas. It also eliminates seasonal rates for the cities of King of Prussia/Ft. Washington/Bala Cynwyd, Pennsylvania.

DATES: This final rule is effective November 8, 2002, and applies to travel performed on or after that date.

FOR FURTHER INFORMATION CONTACT: The Regulatory Secretariat, Room 4035, GS Building, Washington, DC 20405, (202) 208-7312, for information pertaining to status or publication schedules. For clarification of content, contact Joddy P. Garner, Office of Governmentwide Policy, Travel Management Policy, at (202) 501-4857. Please cite FTR Amendment 110.

SUPPLEMENTARY INFORMATION:

A. Background

In the past, properties in high cost travel areas have been under no obligation to provide lodging to Federal travelers at the prescribed per diem rate. Thus, GSA established the FPLP to contract directly with properties in high cost travel markets to make available a set number of rooms to Federal travelers at contract rates. FPLP contract results along with the lodging survey data are integrated together to determine reasonable per diem rates that more accurately reflect lodging costs in these areas. In addition, the FPLP will enhance the Government's ability to better meet its overall room night demand and allow travelers to find lodging close to where they need to conduct business. After an analysis of this additional data, the maximum lodging amounts published in the Federal Register on August 30, 2002 (67 FR 56160), are being changed in Indianapolis, Indiana; Kansas City/Overland Park, Kansas; Minneapolis/St. Paul, Minnesota; Kansas City and Platte, Missouri; and King of Prussia/Ft. Washington/Bala Cynwyd, and Philadelphia, Pennsylvania.

B. Executive Order 12866

This is not a significant regulatory action and, therefore, was not subject to review under section 6(b) of Executive Order 12866, Regulatory Planning and Review, dated September 30, 1993. This rule is not a major rule under 5 U.S.C. 804.

C. Regulatory Flexibility Act

This final rule is not required to be published in the Federal Register for notice and comment; therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Chapter 301

Government employees, Travel and transportation expenses.

Dated: October 31, 2002.
Stephen A. Perry,
Administrator of General Services.

For the reasons set forth in the preamble, under 5 U.S.C. 5701-5709, GSA amends 41 CFR chapter 301 as set forth below:

CHAPTER 301—TEMPORARY DUTY (TDY) TRAVEL ALLOWANCES

1. Amend the table in appendix A to chapter 301 as follows:

a. Under the State of Indiana, city of Indianapolis, including Marion County and Fort Benjamin Harrison, amend the maximum lodging amount by removing “70” and adding “83” in its place; and amend the maximum per diem rate by removing “116” and adding “129” in its place;

b. Under the State of Kansas, cities of Kansas City/Overland Park, including Wyandotte and Johnson Counties, amend the maximum lodging amount by removing “85” and adding “84” in its place; and amend the maximum per diem rate by removing “127” and adding “126” in its place;

c. Under the State of Minnesota, cities of Minneapolis/St. Paul, including Hennepin County and Ft. Snelling Military Reservation and Navy Astronautics Group (Detachment BRAVO), and Ramsey County, amend the maximum lodging amount by removing “95” and adding “110” in its place; and amend the maximum per diem rate by removing “145” and adding “160” in its place;

d. Under the State of Missouri, city of Kansas City, including Jackson and Clay Counties and Kansas City International Airport, amend the maximum lodging amount by removing “85” and adding “84” in its place; and amend the maximum per diem rate by removing “131” and adding “130” in its place;

e. Under the State of Missouri, city of Platte, including Platte County (except Kansas City International Airport), amend the maximum lodging amount by removing “61” and adding “84” in its place; and amend the maximum per diem rate by removing “99” and adding “122” in its place;

f. Amend the entry under the State of Pennsylvania, cities of King of Prussia/Ft. Washington/Bala Cynwyd, including Montgomery County, by removing the two rows of season rates and adding “124” under maximum lodging amount; “46” under M&IE rate; and “170” under maximum per diem rate; and

g. Under the State of Pennsylvania, city of Philadelphia, including Philadelphia County, amend the maximum lodging amount by removing “118” and adding “124” in its place; and amend the maximum per diem rate by removing “168” and adding “174” in its place.

The revised pages containing the amendments to the table set forth above read as follows:

Appendix A to Chapter 301—Prescribed Maximum Per Diem Rates for CONUS

* * * * *

BILLING CODE 6820-24-P

* * * * *

[FR Doc. 02-28917 Filed 11-15-02; 8:45 am]

BILLING CODE 6820-24-C